DEPARTMENT OF THE INTERIOR

Fish and Wildlife Service

[FWS-R5-R-2010-N115; BAC-4311-K9-S3]

Nomans Land Island National Wildlife Refuge, Town of Chilmark, Martha's Vineyard, MA

AGENCY: Fish and Wildlife Service, Interior.

ACTION: Notice of availability of final comprehensive conservation plan and finding of no significant impact for environmental assessment.

SUMMARY: We, the U.S. Fish and Wildlife Service (Service), announce the availability of our final comprehensive conservation plan (CCP) and finding of no significant impact (FONSI) for the environmental assessment (EA) for Nomans Land Island National Wildlife Refuge (NWR). In this final CCP, we describe how we will manage this refuge for the next 15 years.

ADDRESSES: You may view or obtain copies of the final CCP and FONSI by any of the following methods. You may request a hard copy or CD-ROM.

Agency Web site: Download a copy of the document(s) at http://www.fws.gov/northeast/planning/NomansLand/ccphome.html.

Electronic mail: northeastplanning@fws.gov. Include “Nomans Land Island final CCP” in the subject line of the message.

U.S. Postal Service: Eastern Massachusetts NWR Complex, 73 Weir Hill Road, Sudbury, MA 01776.

In-Person Viewing or Pickup: Call 978-443-4661 to make an appointment during regular business hours at the above address.

Facsimile: 978-443-2898.

FOR FURTHER INFORMATION CONTACT: Libby Herland, Project Leader, Eastern Massachusetts NWR Complex, 73 Weir Hill Road, Sudbury, MA 01776; phone: 413-443-4661, or Carl Melberg, Planning Team Leader, phone: 978-443-4661; electronic mail: Carl_Melberg@fws.gov.

SUPPLEMENTARY INFORMATION:

Introduction

With this notice, we finalize the CCP process for Nomans Land Island NWR, which we started with the notice of intent we published in the Federal Register (69 FR 72210) on December 13, 2008. We prepared the EA/draft CCP in compliance with the National Environmental Policy Act of 1969 (NEPA) (42 U.S.C. 4321 et seq.) and the National Wildlife Refuge System Administration Act of 1966 (Administration Act) (16 U.S.C. 668dd-668ee), as amended by the National Wildlife Refuge System Improvement Act of 1997 (Improvement Act). We released the EA/draft CCP to the public, announcing and requesting comments in a notice of availability in the Federal Register (75 FR 30052) on May 28, 2010.

Nomans Land Island is a 628-acre roadless island located approximately 3 miles south of Martha's Vineyard, Massachusetts. The refuge was established in 1998 for the conservation and management of migratory birds. We first began managing a portion of the eastern side of the island in 1970 as an “overlay” refuge under a joint management agreement between the U.S. Department of the Interior and the U.S. Department of the Navy (Navy), while it was still under Navy management. In 1998, management of the island was transferred to the Service, and all 628 acres became Nomans Land Island NWR.

This island has a unique history, from its use by Native Americans as a summer camp, to sheep grazing when the island was privately owned in the 1800s, to use as a bombing range by the Navy during World War II. Because Nomans Land Island provides diverse habitats including intertidal, freshwater wetland, grassland, and shrubland habitats, it serves an important role for nesting landbirds and colonial waterbirds, and is a stopover for migratory birds and raptors, including the peregrine falcon.

We announce our decision and the availability of the FONSI for the final CCP for Nomans Land Island NWR in accordance with NEPA requirements. The FONSI is included as Appendix K in the final CCP. We completed a thorough analysis of impacts on the human environment, which we included in the EA/draft CCP.

Alternative C, as we described in the EA/draft CCP, is the foundation for the final CCP.

Background

The Administration Act, as amended by the Improvement Act, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

Our EA/draft CCP addressed several key issues, including the amount of shrubland to manage, other priority habitat types to conserve, land protection and conservation priorities, improving the visibility of the Service and refuge, and ways to improve opportunities for off-site public use while ensuring the restoration and protection of priority ecological and cultural resources.

To address these issues and develop a plan based on the purposes for establishing the refuge, and the vision and goals we identified, we identified three alternatives in the EA. The alternatives have some actions in common, such as protecting and monitoring federally listed species and the regionally significant coastal shrubland, controlling invasive plants and wildlife diseases, monitoring programs that benefit our resource decisions, protecting cultural resources, and distributing refuge revenue-sharing payments to counties.

Other actions distinguish the alternatives. Alternative A, or the “No Action Alternative,” consists of our current management activities. It serves as the baseline against which to compare the other two alternatives. Our habitat management and visitor services programs would not change under this alternative. We would continue to use the same tools and techniques, and not expand existing facilities. Under Alternative A, we would continue to passively manage refuge lands, and the Service would have minimal presence. Habitat management would be limited to continuing to passively oversee the current 400 acres of shrub habitat, up to 150 acres of freshwater wetland communities, 100 acres of marine intertidal beach and rocky shore habitat, and 15 acres of herbaceous upland dune vegetation. We would continue minimal monitoring of focal species as current staffing allows. We would provide oversight and coordination to Navy contaminant and unexploded ordnance (UXO) cleanup.

The refuge would continue to be closed to the public. Administration of off-site visitor services, land protection, and biological and law enforcement activities would be handled by existing staff from the Eastern Massachusetts NWR Complex based in Sudbury, Massachusetts, as funds and staffing permit.

Under Alternative B, we would emphasize more active monitoring and management of all refuge habitats to support focal species whose habitat needs also benefit other species of conservation concern in the region. In particular, the alternative emphasizes active habitat management for breeding and migrating priority bird species of conservation concern identified by national, regional, and State conservation plans.

With the addition of seasonal biological and law enforcement staff, under Alternative B, we would also implement a more active prescribed burning regime, invasive species and predator control programs, and better enforcement of the no-public-access policy. We would actively monitor and manage beach/nesting species such as terns, plovers, and rare plants, and consider the introduction of the New England cottontail. We would improve our visitor services through partnerships and working with them to develop programs and facilities on their lands that help increase awareness of the refuge's biological and cultural resources. Finally, our biological program would be enhanced through partnerships that would increase our ability to conduct surveys and long-term monitoring.

Alternative C was identified as the Service-preferred alternative in theEA/draft CCP. It allows the 400 acres of critical migration stopover shrub habitat to be influenced by natural processes such as succession over the next 15 years, with minimal management. It allows coastal processes of wind and wave action to shape the current 15 acres of herbaceous upland dune vegetation, 100 acres of marine intertidal beach and rocky shore habitats, and almost 150 acres of freshwater wetlands. Under this alternative, we also would continue to study the feasibility of introducing New England cottontail on the refuge.

The alternative recognizes the island as one of the few opportunities in the Northeast region of the United States for wilderness designation and proposes pursuing formal designation as a unit of the National Wilderness Preservation System. It also recognizes the need to coordinate with the Navy annually to promote communication, exchange information on Navy operations and management planning, and facilitate cleanup of contaminants and UXO on the refuge. We would also closely coordinate with the Navy and the Massachusetts State Historic Preservation Office for any proposed ground-disturbing activity. We would monitor vegetation changes every 3 years through aerial photography and/or site visitation. We would establish a fire regime to manage shrub habitat as needed, and we would monitor invasive plant species annually and control those that threaten healthy ecosystems.

Existing refuge complex staff would enhance the visitor services program through a broader array of off-site programming and outreach through partnership opportunities as they arise, similar to, but to a lesser extent than would take place under the other alternatives.

Comments

We invited comments on the EA/draft CCP during a public review and comment period, from May 28 through July 3, 2010, and held a public meeting on June 23, 2010, in the Town of Chilmark, Massachusetts.

We received 24 unique letters and oral comments representing individuals, organizations, and State agencies. We made modifications to the draft that are outlined in Appendix J, “Summary of Public Comments and Service's Response on the Environmental Assessment and Draft Comprehensive Conservation Plan for Nomans Land Island National Wildlife Refuge” in the final CCP. Highlights of some of the changes are listed below:

1. We were made aware of additional partnership opportunities on Martha's Vineyard and have modified the final CCP to reflect these opportunities (pages 4-7 through 4-8). We also inserted language in the Rationale to Objective 2.2 (page 4-30) that these partnerships would potentially provide additional resources to increase our visitor services capacity from what we originally proposed.

2. We added language to Chapter 4 in the final CCP (page 4-11) stating that although it would not be possible to clean up the island to pre-bombing conditions, we would continue to work with the Navy and Federal and State regulators for the 5-year site reviews as required by the Comprehensive Environmental Response, Compensation, and Liability Act. If, at some point in the future, there is a major advance in technology that would allow the extraction of UXOs without massive ground disturbance or impact to wildlife, then additional cleanup might warrant further consideration at that time.

3. We included language in our Habitat Management and Protection summary in Chapter 4 of the final CCP (page 4-14) and biological rationales [Objectives 1.1 (page 4-19) and 1.2 (page 4-24)] to work with the Massachusetts Natural Heritage and Endangered Species Program to evaluate the appropriateness of altering the frequency of prescription burns to incorporate rare plant management, and for tern restoration efforts.

4. We added language to several sections in Chapter 3 and Chapter 4 in the final CCP to incorporate more life history information and to refine our biological objectives and management actions for piping plover (pages 3-33,3-35, 4-21, 4-23, and 4-24). This is due to the presence of a breeding pair on the island for the first time in 30 years.

5. We corrected typographical and grammatical errors identified by reviewers.

Selected Alternative

After considering the comments we received on our EA/draft CCP, we have selected Alternative C for implementation, for several reasons. Alternative C comprises the mix of actions that, in our professional judgment, works best toward achieving refuge purposes, our vision and goals, and the goals of other State and regional conservation plans, and it is most consistent with the principles of sound fish and wildlife management. We also believe it most effectively addresses the key issues raised during the planning process. The basis of our decision is detailed in Appendix K, Finding of No Significant Impact, in the final CCP.

Public Availability of Documents

You can view or obtain documents as indicated under ADDRESSES.

Dated: September 9, 2010.
James G. Geiger,
Acting Regional Director, Northeast Region, U.S. Fish and Wildlife Service, Hadley, MA 01035.

[FR Doc. 2010-25393 Filed 10-7-10; 8:45 am]

BILLING CODE 4310-55-P